FEDERAL HOUSING FINANCE BOARD

Sunshine Act Meeting

Federal Register Citation of Previous Notice; 65 FR 55980, September 15, 2000.

Previously Announced Time and Date of the Meeting: 2:00 p.m., Tuesday, September 19, 2000.

Change in the meeting: The following topic was added to the open portion of the meeting: • Extension of the Comment Period for the Proposed Capital Regulation.

The Board determined that agency business required the addition of this item on less than seven days notice to the public and that on earlier notice of this change in the subject matter of the matter was practicable.

CONTACT PERSON FOR MORE INFORMATION: Elaine L. Baker, Secretary to the Board, (202) 408-2837.

James L. Bothwell,
Managing Director.

[FR Doc. 00-24618 Filed 9-20-00; 4:57 pm]

BILLING CODE 6725-01-P